DEPARTMENT OF HEALTH AND HUMAN SERVICES

Centers for Disease Control and Prevention

Board of Scientific Counselors, National Center for Injury Prevention and Control (BSC, NCIPC)

In accordance with Section 10(a)(2) of the Federal Advisory Committee Act (Pub. L.92-463), the Centers for Disease Control and Prevention (CDC) announces the following meeting of the aforementioned board:

Times and Dates

8:30 a.m.-4:30 p.m., October 18, 2012.

8:30 a.m.-2 p.m., October 19, 2012.

Place: Centers for Disease Control and Prevention, 4770 Buford Highway, NE., Building 106, Atlanta, Georgia 30341.

Status: Open to the public, limited only by the space available.

Purpose: The Board will: (1) Conduct, encourage, cooperate with, and assist other appropriate public health authorities, scientific institutions, and scientists in the conduct of research, investigations, experiments, demonstrations, and studies relating to the causes, diagnosis, treatment, control, and prevention of physical and mental diseases, and other impairments and (2) conduct and assist in research and control activities related to injury.

Matters To Be Discussed: The BSC, NCIPC will discuss the strategies and activities needed to guide the Center's research and program focus. Topics to be discussed include the Director's Update on the budget appropriation, reorganization and partnerships; Science Update; health communication; global activities; Research to Practice Agenda; and increasing programmatic input to the BSC. There will be 15 minutes allotted for public comments at the end of the open session.

Agenda items are subject to change as priorities dictate.

Contact Person for More Information: Gwendolyn H. Cattledge, Ph.D., M.S.E.H., Deputy Associate Director for Science, NCIPC, CDC, 4770 Buford Highway, NE., Mailstop F-63, Atlanta, Georgia 30341, Telephone (770) 488-1430.

The Director, Management Analysis and Services Office, has been delegated the authority to sign Federal Register notices pertaining to announcements of meetings and other committee management activities, for both the Centers for Disease Control and Prevention and the Agency for Toxic Substances and Disease Registry.

Dated: September 17, 2012.
Elaine L. Baker,
Director, Management Analysis and Services Office, Centers for Disease Control and Prevention.

[FR Doc. 2012-23452 Filed 9-21-12; 8:45 am]

BILLING CODE 4163-18-P